ENVIRONMENTAL PROTECTION AGENCY

[R06-OAR-2005-TX-0027; FRL-7920-4]

Adequacy Status of Submitted State Implementation Plans (SIP) for Transportation Conformity Purposes: 5% Increment of Progress Motor Vehicle Emissions Budgets for the Dallas-Fort Worth 8-Hour Ozone Nonattainment Area

AGENCY: Environmental Protection Agency (EPA).

ACTION: Notice of adequacy determination.

SUMMARY: In this action, EPA is notifying the public that we have found the on-road motor vehicle emissions budgets contained in the Dallas-Fort Worth moderate 8-hour ozone nonattainment area 5% Increment of Progress SIP adequate for transportation conformity purposes. As a result of our finding, the budgets from the submitted SIP revision must be used for future conformity determinations in the Dallas-Fort Worth area.

DATES: These budgets are effective June 16, 2005.

FOR FURTHER INFORMATION CONTACT: The essential information in this notice will be available at EPA's conformity website: http://www.epa.gov/oms/transp/conform/adequacy.htm. You may also contact Ms. Peggy Wade, Air Planning Section (6PD-L), U.S. EPA Region 6, 1445 Ross Avenue, Dallas, Texas 75202-2733, telephone (214) 665-7247, Email address: Wade.Peggy@epa.gov.

SUPPLEMENTARY INFORMATION: Throughout this document “we,” “us,” and “our” refers to EPA. The word “budget(s)” refers to the mobile source emissions budget for volatile organic compounds (VOCs) and the mobile source emissions budget for nitrogen oxides (NOX). The word “SIP” in this document refers to the State Implementation Plan submitted as a transition SIP between the 1-hour ozone National Ambient Air Quality Standard (NAAQS) and the 8-hour ozone NAAQS, per the option given in 40 CFR 51.905(a)(ii)(B). This transitional SIP is also called the 5% Increment of Progress (IOP) Plan.

On May 17, 2005, we received the 5% IOP SIP for the Dallas-Fort Worth 9-county 8-hour ozone nonattainment area. There are two motor vehicle emissions budgets found in this plan for 2007. The emissions budget for VOCs is 104.14 tons/day; the NOX emissions budget is 201.32 tons/day. On January 20, 2005, the availability of these budgets was posted on EPA's website for the purpose of soliciting public comments. A technical error in the budgets was discovered during the review process and they were revised accordingly. An update announcing the availability of the revised MVEBs was posted on April 13, 2005. The comment period closed on May 12, 2005, and we received no comments.

Today's notice is simply an announcement of a finding that we have already made. EPA Region 6 sent a letter to the Texas Commission on Environmental Quality on May 16, 2005, finding that the motor vehicle emissions budgets in the Dallas-Fort Worth 9-county ozone nonattainment area are adequate and must be used for transportation conformity determinations.

Transportation conformity is required by Section 176(c) of the Clean Air Act. EPA's conformity rule, 40 CFR part 93, requires that transportation plans, programs and projects conform to SIPs and establishes the criteria and procedures for determining whether or not they do so. Conformity to a SIP means that transportation activities will not produce new air quality violations, worsen existing violations, or delay timely attainment of the National Ambient Air Quality Standards. The criteria by which EPA determines whether a SIP's motor vehicle emission budgets are adequate for conformity purposes are outlined in 40 CFR 93.118(e)(4). Please note that such an adequacy review is separate from EPA's completeness review, and it should not be used to prejudge EPA's ultimate action on the SIP. Even if we find a budget adequate, the SIP could later be disapproved.

List of Subjects in 40 CFR Part 52

Environmental protection, Air pollution control, Intergovernmental relations, Nitrogen dioxide, Ozone, Reporting and recordkeeping requirements, Volatile organic compounds.

Authority: 42 U.S.C. 7401 et seq.

Dated: May 25, 2005.
Richard E. Greene,
Regional Administrator, Region 6.

[FR Doc. 05-10991 Filed 5-31-05; 8:45 am]

BILLING CODE 6560-50-P